DEPARTMENT OF COMMERCE

National Oceanic and Atmospheric Administration

[I.D. 072700B]

Marine Mammals; File No. 731-1509-01

AGENCY: National Marine Fisheries Service (NMFS), National Oceanic and Atmospheric Administration (NOAA), Commerce.

ACTION: Receipt of application for amendment.

SUMMARY: Notice is hereby given that Robin Baird, Ph.D., 2 Supanee Court, French's Road, Cambridge CB4 3LB, UNITED KINGDOM, has requested an amendment to Scientific Research Permit No. 731-1509-01.

DATES: Written or telefaxed comments must be received on or before September 14, 2000.

ADDRESSES: The amendment request and related documents are available for review upon written request or by appointment in the following office(s):

Permits and Documentation Division, Office of Protected Resources, NMFS, 1315 East-West Highway, Room 13705, Silver Spring, MD 20910 (301/713-2289);

Regional Administrator, Northwest Region, NMFS, 7600 Sand Point Way, NE, BIN C15700, Bldg. 1, Seattle, WA 98115-0070 (206/526-6426);

Regional Administrator, Southwest Region, 501 West Ocean Boulevard, Suite 4200, Long Beach, California 90802-4213, (562/980-4021); and

Regional Administrator, Alaska Region, Federal Building, Room 461, 709 West 9th Street, Juneau, Alaska 99802, (907/586-7235).

Written comments or requests for a public hearing on this request should be submitted to the Chief, Permits and Documentation Division, F/PR1, Office of Protected Resources, NMFS, 1315 East-West Highway, Room 13705, Silver Spring, MD 20910. Those individuals requesting a hearing should set forth the specific reasons why a hearing on this particular amendment request would be appropriate.

Comments may also be submitted by facsimile at 301/713-0376, provided the facsimile is confirmed by hard copy submitted by mail and postmarked no later than the closing date of the comment period. Please note that comments will not be accepted by e-mail or other electronic media.

FOR FURTHER INFORMATION CONTACT: Jill Lewandowski or Trevor Spradlin, (301) 713-2289.

SUPPLEMENTARY INFORMATION: The subject amendment to Permit No. 731-1509-01, issued on November 24, 1999 (64 FR 67563-67564) is requested under the authority of the Marine Mammal Protection Act of 1972, as amended (16 U.S.C. 1361 et seq.), and the Regulations Governing the Taking and Importing of Marine Mammals (50 CFR part 216).

Permit No.731-1509-01 authorizes the applicant to conduct radio tagging via suction-cup attachment, photo-identification, and behavioral observations of several species of cetaceans in the waters of Washington, Southeast Alaska, Oregon, California, Hawaii, and the Mediterranean and Ligurian Seas in order to study diving behavior of the subject cetacean species. The authority of this permit expires on July 31, 2004.

The applicant is now requesting authorization to increase annual takes of killer whales (Orcinus orca) from 20 to 50 in Pacific coastal waters. The researcher proposes that the increase in takes will allow for a sufficient sample size to quantitatively examine reactions of tagged animals to vessel traffic, particularly for the “southern” resident population.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: August 9, 2000.
Ann D. Terbush,
Chief, Permits and Documentation Division, Office of Protected Resources, National Marine Fisheries Service.

[FR Doc. 00-20683 Filed 8-14-00; 8:45 am]

BILLING CODE 3510-22-F